DEPARTMENT OF STATE

[Public Notice: 6961]

60-Day Notice of Proposed Information Collection: DS-2020 Retail Price Schedule, Part 3 and Part 4, 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Retail Price Schedule.

• OMB Control Number: No OMB Control Number has yet been assigned.

• Type of Request: New Collection.

• Originating Office: Bureau of Administration Office of Allowances (A/OPR/ALS).

• Form Number: DS-2020.

• Respondents: Respondents are managers of retail price outlets in the Washington, DC area and at 96 foreign locations.

• Estimated Number of Respondents: 3888 annually. The estimate represents the number of outlets visited annually worldwide.

• Estimated Number of Responses: 4032.

• Average Hours Per Response: It is estimated that the average in Washington, DC is one hour. The estimate for foreign locations is twenty minutes.

• Total Estimated Burden: 1,376 hours.

• Frequency: Biennially at foreign posts. Quarterly in Washington, D.C.

• Obligation to Respond: Responses from outlets is Voluntary. However, the collection and submission of the data by USG posts is required for Federal employees to obtain/retain a benefit.

DATES: The Department will accept comments from the public up to 60 days from April 21, 2010.

ADDRESSES: You may submit comments by any of the following methods:

• E-mail: AllowancesO@state.gov.

• Mail (paper, disk, or CD-ROM submissions): Office of Allowances (A/OPR/ALS), Room L314 SA-1, Department of State, Washington, DC 20522-0103

• Fax: (202) 261-8707 or (202) 261-8708

• Hand Delivery or Courier: Office of Allowances (A/OPR/ALS) Room L314, Department of State, 2401 E Street, NW., Washington, DC 20037

You must include the DS form number (if applicable), information collection title, and OMB control number in any correspondence.

FOR FURTHER INFORMATION CONTACT: Direct requests for additional information regarding the collection listed in this notice, including requests for copies of the proposed information collection and supporting documents, to George W. Indyke, Director, Office of Allowances, Room L314 SA-1, Washington, DC 20522-0103, who may be reached on (202) 261-8700 or at AllowancesO@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The collected data is used by the Department of State to carry out its responsibilities under 5 U.S.C. 5924(1), and Executive Orders 10903 and by the Department of Defense to carry out responsibilities under 37 USC 405. It is the primary source of information used to establish/justify post (cost of living) allowances for all Federal civilian employees assigned abroad and cost of living allowances for uniformed service members. The respondents are the store/department managers of approximately 40 retail outlets at each foreign post and approximately 48 retail outlets in the Washington, DC area.

Methodology: U.S.G. employees or contractors visit the retail outlets and gather prices personally. The estimated burden for respondents is based on the time the Price Collectors may spend with them to explain the purpose of the data collection and seek their cooperation with having the price collector gather prices. Once the price collector has completed the cost data collection, the information is entered in the eAllowances program for electronic submission to the Department of State's Office of Allowances.

Dated: April 16, 2010.
Steven J. Rodriguez,
Deputy Assistant Secretary for Operations, Bureau of dministration, Department of State.

[FR Doc. 2010-9183 Filed 4-20-10; 8:45 am]

BILLING CODE 4710-24-P